ADVISORY COUNCIL ON HISTORIC PRESERVATION

Notice of Advisory Council on Historic Preservation Quarterly Business Meeting

AGENCY: Advisory Council on Historic Preservation.

ACTION: Notice of Advisory Council on Historic Preservation Quarterly Business Meeting.

SUMMARY: Notice is hereby given that the Advisory Council on Historic Preservation (ACHP) will hold its next quarterly meeting on Friday, March 7, 2014. The meeting will be held in Room SR325 at the Russell Senate Office Building at Constitution and Delaware Avenues NE., Washington, DC, starting at 8:30 a.m.

DATES: The quarterly meeting will take place on Friday, March 7, 2014, starting at 8:30 a.m. EST.

ADDRESSES: The quarterly meeting will be held in Room SR325 at the Russell Senate Office Building at Constitution and Delaware Ave. NE., Washington, DC.

FOR FURTHER INFORMATION CONTACT: Cindy Bienvenue, 202-606-8521, cbienvenue@achp.gov.

SUPPLEMENTARY INFORMATION: The Advisory Council on Historic Preservation (ACHP) is an independent federal agency that promotes the preservation, enhancement, and sustainable use of our nation's diverse historic resources, and advises the President and the Congress on national historic preservation policy. The goal of the National Historic Preservation Act (NHPA), which established the ACHP in 1966, is to have federal agencies act as responsible stewards of our nation's resources when their actions affect historic properties. The ACHP is the only entity with the legal responsibility to encourage federal agencies to factor historic preservation into federal project requirements. For more information on the ACHP, please visit our Web site at www.achp.gov.

The agenda for the upcoming quarterly meeting of the ACHP is the following:

Call to Order—8:30 a.m.

I. Chairman's Welcome

II. Swearing In Ceremony

III. Chairman's Award

IV. Chairman's Report

V. Historic Preservation Policy and Programs

A. Building a More Inclusive Preservation Program: Proposed Executive Order

B. Working With Indian Tribes: Proposed ACHP Policy for Tribal Historic Preservation Officers

C. Preserve America Program

D. 50th Anniversary of the National Historic Preservation Act

E. Rightsizing Task Force Report and Implementation Plan

F. Climate Change and Cultural Resources

G. ACHP Legislative Agenda

1. Amendments to the National Historic Preservation Act

2. Recent Legislation Related to Historic Preservation

3. Advocacy Week

VI. Section 106 Issues

A. Report to Congress on Historic Post Offices Disposals

B. 2015 Section 3 Report to the President

C. Northern Plains Tribal Summit

D. Federal Communications Commission Program Alternative for Positive Train Control

VII. ACHP Management Issues

A. ACHP FY 2014 and 2015 Budget

B. Alumni Foundation Report

C. ACHP Office Relocation Update

VIII. New Business

IX. Adjourn

The meetings of the ACHP are open to the public. If you need special accommodations due to a disability, please contact Cindy Bienvenue, 202-606-8521 or cbienvenue@achp.gov, at least seven (7) days prior to the meeting.

Authority: 16 U.S.C. 470j.

Dated: February 11, 2014.
Javier E. Marques,
Associate General Counsel.

[FR Doc. 2014-03373 Filed 2-14-14; 8:45 am]

BILLING CODE 4310-K6-P